ENVIRONMENTAL PROTECTION AGENCY

[FRL-7246-9]

Agency Information Collection Activities: Proposed Collection; Comment Request; Information Collection Activities Associated With EPA's Energy Star ® Product Labeling

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): Information Collection Activities Associated with EPA's Energy Star ® Product Labeling, EPA ICR No. 2078.01. Before submitting the ICR to OMB for review and approval, EPA is soliciting comments on specific aspects of the proposed information collection as described below.

DATES: Comments must be submitted on or before September 16, 2002.

ADDRESSES: Climate Protection Partnerships Division, US EPA (MC-6202J), 1200 Pennsylvania Ave, NW., Washington, DC 20460. ICR may be obtained electronically by contacting Rachel Schmeltz via e-mail at schmeltz.rachel@epa.gov.

FOR FURTHER INFORMATION CONTACT: Rachel Schmeltz, phone: 202-564-9124, fax: 202-565-2077, schmeltz.rachel@epa.gov

SUPPLEMENTARY INFORMATION:

Affected entities: Entities potentially affected by this action are product manufacturers which are Partners in EPA's Energy Star program.

Title: Information Collection Activities Associated with EPA's Energy Star ® Product Labeling, EPA ICR No. 2078.01. This is a new collection.

Abstract: Energy Star is a voluntary program developed in collaboration with industry to create a self-sustaining market for energy efficient products. The center piece of the program is the Energy Star label, a registered certification label that helps consumers identify products that save energy, save money, and help protect the environment without sacrificing quality or performance. In order to protect the integrity of the label and enhance its effectiveness in the marketplace, EPA must ensure that products carrying the label meet appropriate program requirements. Since Energy Star is a self-certification program, it is important that program participants submit signed Partnership Agreements indicating that they will adhere to logo-use guidelines and that participating products meet specified energy performance criteria based on a standard test method.

As part of our contribution to the overall success of the program, EPA has agreed to facilitate the sale of qualifying products by providing consumers with easy-to-use information about the products. To be effective, EPA must receive qualifying product information from participating manufacturers. Partners will be requested to submit updates to qualifying product information on an annual basis, so as to ensure that EPA information is recent and accurate. The information will be compiled into a complete qualifying products list per product category, posted on the Energy Star Web site, and supplied to those purchasers who request it via phone, fax, or e-mail. In addition, because of the nature of these products, manufacturer of roof products and residential light fixtures will be requested to submit testing reports in order to verify qualification.

In order to monitor progress and support the best allocation of resources, EPA will also ask manufacturers to submit annual shipment data for their Energy Star qualifying products. EPA is flexible as to the methods by which manufacturers may submit unit shipment data. For example, if manufacturers already submit this type of information to a third party, such as a trade association, manufacturers are given the option of arranging for shipment data to be sent to EPA via this third party to avoid duplication of efforts and to ensure confidentiality. In using any shipment data received directly from a partner, EPA will mask the source of the data so as to protect confidentiality.

Finally, Partners that wish to receive recognition for their efforts in Energy Star may submit an application for the Partner of the Year Award.

An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The estimated total cost for respondents is $8,245,116 and the hourly burden is approximately 129,623 hours. The estimated total cost for the Agency is $413,361 and the hourly burden is approximately 9,549 hours. A grand total of $8,658,477 and an hourly burden of approximately 139,172 hours is expected for all information collection activities under Energy Star product labeling.

EPA collects initial information in the Partnership Agreement (PA), which is completed and submitted by every Partner participating in Energy Star. One overarching PA has been developed by EPA for Energy Star product labeling. It is expected that 118 new Partners will join each year for the three years of this ICR. The reporting burden for information collection requirements associated with completing the PA for each respondent is estimated to be 12.85 hours. This estimate includes times for reviewing the instructions on the PA, completing and reviewing the information requested by the PA, and submitting the PA.

Every manufacturing Partner is required to submit information on each of their qualifying products. Annual updates, notifying EPA of any changes in qualifying product information, are required as well. Thirty-two different product categories are covered by EPA under Energy Star. Each product category has specific qualifying product information that must be submitted by each Partner for at least one qualifying product. Qualifying product information is expected for 3,112 new qualifying products each year for the three years of this ICR. The qualifying product list for each product category is updated by the Agency once each month, for a total of 384 times annually (32 product categories times 12 months in a year). Approximately twice each month the Agency receives a request for qualifying product information that cannot be fulfilled by the Energy Star Web site, for a total of 768 requests. The reporting burden for information collection requirements associated with completing the qualifying product information for each qualifying product submitted by a respondent is estimated to be 19.47 hours. This estimate includes time for reviewing instructions, completing and reviewing the information requested, and submitting the information.

Energy Star Partners for residential light fixtures and roof products are required to submit testing reports for each product determined to by qualified with the Energy Star criteria. It is anticipated that qualifying product information for 654 new roof and residential light fixture products will be received by EPA each year for the three years of this ICR. The reporting burden for information collection requirements associated with testing reports by roof product and residential light fixture Partners for each qualifying product submitted by a respondent is estimated to be 69.75 hours. This estimate includes performing testing in house or by a Third Party, assembling the data into a report format, reviewing it and submitting it.

EPA also requires that manufacturing Partners submit information on their unit shipments of Energy Star labeled products annually. Each year, Energy Star Partners are required to submit unit shipment data for their Energy Star labeled products. There will be an average of 1,143 total Partners each year for the three-years of this ICR. Therefore, 1,143 reports of unit shipment data are expected each year for the three years of this ICR. Unit shipment data will be aggregated for each of the 32 product categories covered by EPA under Energy Star. The reporting burden for information collection requirements associated with unit shipment data for each respondent is estimated to be 26.76 hours. This estimate includes gathering unit shipment data compiling and reviewing unit shipment data by product category, and submitting unit shipment data.

Partners interested in receiving recognition for their efforts on Energy Star are required to submit a Partner of the Year Award application. One set of Partner of the Year award criteria are developed by the Agency each year and posted on the Energy Star web site. An average of 30 Partners of the Year Award applications are expected each year for the three years of this ICR. The reporting burden for information collection requirements associated with the Partner of the Year Application for each respondent is estimated to be 44.10 hours. This estimate includes reviewing the eligibility requirements and instruction on the application, gathering data and information for submission, completing the application, reviewing the information and narrative description required, and submitting the application to EPA.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: June 26, 2002.
Kathleen Hogan,
Director, Climate Protection Partnerships Division.

[FR Doc. 02-17982 Filed 7-16-02; 8:45 am]

BILLING CODE 6560-50-P